ENVIRONMENTAL PROTECTION AGENCY

40 CFR Part 80

[FRL-7161-2]

RIN 2060-AJ80

Relaxation of Summer Gasoline Volatility Standard for the Denver/Boulder Area

AGENCY: Environmental Protection Agency (EPA).

ACTION: Withdrawal of direct final rule.

SUMMARY: EPA published a direct final rule on January 24, 2002, to relax the federal gasoline volatility standard that applies to gasoline supplied to the Denver/Boulder area from June 1st to September 15th (the ozone control season) of each year. However, we received an adverse comment during the 30 day comment period and are now withdrawing that direct final rule.

DATES: As of March 21, 2002, EPA withdraws the direct final rule published at 67 FR 3435, on January 24, 2002.

FOR FURTHER INFORMATION CONTACT: Richard Babst at (202) 564-9473.

SUPPLEMENTARY INFORMATION: Because EPA received adverse comment, we are withdrawing the direct final rule for “Relaxation of Summer Gasoline Volatility Standard for the Denver/Boulder Area.” We published the direct final rule on January 24, 2002 (67 FR 3435), that would have approved the State of Colorado's request to relax the federal Reid Vapor Pressure (“RVP”) gasoline standard that applies to gasoline supplied to the Denver/Boulder area from June 1st to September 15th (the ozone control season) of each year. That action would have amended our regulations to change the summertime RVP standard for the Denver area from 7.8 pounds per square inch (“psi”) to 9.0 psi. We stated in that Federal Register document that if we received adverse comment by February 25, 2002, we would publish a timely notice of withdrawal in the Federal Register. We subsequently received an adverse comment. We will address the comment in a subsequent final action based on the parallel proposal also published on January 24, 2002 (67 FR 3468). As stated in the parallel proposal, we will not institute a second comment period on this action.

Dated: March 15, 2002.
Robert Brenner,
Acting Assistant Administrator for Office of Air and Radiation.

[FR Doc. 02-6846 Filed 3-20-02; 8:45 am]

BILLING CODE 6560-50-P